DEPARTMENT OF TRANSPORTATION

Federal Aviation Administration

14 CFR Part 39

[Docket No. 2002-NM-130-AD; Amendment 39-12840; AD 2002-16-01]

RIN 2120-AA64

Airworthiness Directives; McDonnell Douglas Model DC-8-21, -31, -32, -33, -41, -42, and -43 Airplanes; and Model DC-8-50, -60, and -70 Series Airplanes; Modified per Supplemental Type Certificates SA1063SO, SA1862SO, or SA1832SO

AGENCY: Federal Aviation Administration, DOT.

ACTION: Final rule; request for comments.

SUMMARY: This amendment adopts a new airworthiness directive (AD) that is applicable to certain McDonnell Douglas Model DC-8-21, -31, -32, -33, -41, -42, and -43 airplanes; and certain Model DC-8-50, -60, and -70 series airplanes; that have been converted from a passenger-to a cargo-carrying (“freighter”) configuration. This action requires gaining access to the floor beam attachments to the lower door jamb within the main cargo door area; performing repetitive inspections to detect cracking or damage of such attachments, including splice plates, angles, and clips; and, if necessary, expanding the inspection area and replacing any cracked or damaged part with a new part. This action is necessary to prevent failure of such floor beam attachments during ground or flight operations, which could cause damage to the floor structure and consequent jamming of the flight control cables, and result in loss of controllability of the airplane in flight.

DATES: Effective August 22, 2002.

Comments for inclusion in the Rules Docket must be received on or before October 7, 2002.

ADDRESSES: Submit comments in triplicate to the Federal Aviation Administration (FAA), Transport Airplane Directorate, ANM-114, Attention: Rules Docket No. 2002-NM-130-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-130-AD” in the subject line and need not be submitted in triplicate. Comments sent via the Internet as attached electronic files must be formatted in Microsoft Word 97 for Windows or ASCII text.

Information pertaining to this amendment may be examined at the FAA, Transport Airplane Directorate, 1601 Lind Avenue, SW., Renton, Washington; or at the FAA, Atlanta Certification Office, One Crown Center, 1895 Phoenix Boulevard, suite 450, Atlanta, Georgia.

FOR FURTHER INFORMATION CONTACT: Technical Information: Hassan Amini, Aerospace Engineer, Airframe and Propulsion Branch, ACE-117A, FAA, Atlanta Aircraft Certification Office, One Crown Center, 1895 Phoenix Boulevard, suite 450, Atlanta, Georgia 30349; telephone (770) 703-6080; fax (770) 703-6097.

Other Information: Sandi Carli, Airworthiness Directive Technical Editor/Writer; telephone (425) 687-4243, fax (425) 687-4271. Questions or comments may also be sent via the Internet using the following address: sandi.carli@faa.gov. Questions or comments sent via the Internet as attached electronic files must be formatted in Microsoft Word 97 for Windows or ASCII text.

SUPPLEMENTARY INFORMATION: The FAA has received several reports of findings of cracked or broken angles and splice plates on floor beam attachments to the lower door jamb of the main cargo door area on certain McDonnell Douglas Model DC-8-21, -31, -32, -33, -41, -42, and -43 airplanes; and Model DC-8-50, -60, and -70 series airplanes. One report revealed that, during a routine C-check on a Model DC-8-62 airplane, fractures were found in 9 of 11 of the floor beam attachments to the lower door jamb. Findings indicate that such fractures could be due to factors associated with flight operations and/or loading operations on the ground. Such conditions, if not corrected, could cause failure of such floor beam attachments during ground or flight operations. This could cause damage to the floor structure and consequent jamming of the control cables, and result in loss of controllability of the airplane in flight.

Explanation of Requirements of the Rule

Since an unsafe condition has been identified that is likely to exist or develop on other airplanes of the same type design, this AD is being issued to prevent failure of the floor beam attachments to the lower door jamb. Such failure could cause damage to the floor structure and consequent jamming of the flight control cables, and result in loss of controllability of the airplane in flight. This AD requires gaining access to the floor beam attachments to the lower door jamb within the main cargo door area; and performing repetitive inspections to detect cracking or damage of such attachments, including splice plates, angles, and clips. If any cracking or damage is found, this AD also requires extending the area of inspection 60 inches forward and aft of the main cargo door area, and replacing any cracked or damaged part with a new part. Figure 1 of Appendix 1 of this AD identifies the inspection area and parts to be inspected.

This AD also requires operators to report the results of any detailed inspection required by paragraph (a) of this AD to the FAA.

Interim Action

This is considered to be interim action until final action is identified, at which time the FAA may consider further rulemaking. Because the cause of the addressed cracking or damage is not currently known, the intent of the required inspection report is to enable the FAA to determine how widespread such cracking or damage may be in the affected fleet. Based on the results of this report, further corrective action may be warranted.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-130-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-16-01 McDonnell Douglas:Amendment 39-12840. Docket 2002-NM-130-AD.

Applicability: This AD applies to airplanes that have been converted from a passenger-to a cargo-carrying (“freighter”) configuration per Supplemental Type Certificate SA1063SO, SA1862SO, or SA1832SO; certificated in any category; as listed in the following table:

Table—Applicability
Airplane Models
DC-8-21, -31, -32, -33, -41, -42, and -43 airplanes;
DC-8-51, -52, -53, and -55 airplanes;
DC-8-61, -62, and -63 airplanes; and
DC-8-71, -72, and -73 airplanes.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent failure of the floor beam attachments to the lower door jamb of the main cargo door due to cracking or damage during ground or flight operations, which could cause damage to the floor structure and consequent jamming of the flight control cables, and result in loss of controllability of the airplane in flight; accomplish the following:

Gaining Access and Repetitive Inspections

(a) Within 50 flight hours or 60 days after the effective date of this AD, whichever occurs later, accomplish the actions required by paragraphs (a)(1) and (a)(2) of this AD.

(1) Gain access to the floor beam attachments to the lower door jamb within the main cargo door area by removing the cargo handling system (including ball mats, roller trays, and pallet locks), floor panels, and cargo liner of the lower baggage compartment as necessary to access both sides of the floor beam attachments.

(2) Perform a detailed inspection of the main cargo door area to detect any cracking or damage of the floor beam attachments to the lower door jamb, including the splice plates, angles, and clips identified in Figure 1 of Appendix 1 of this AD Thereafter, repeat the inspection at intervals not to exceed 2,500 flight cycles or 18 months, whichever occurs earlier.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Extending Inspection Area and Replacement

(b) If any cracking or damage is found during any inspection required by paragraph (a)(2) of this AD, before further flight, extend the area of inspection 60 inches forward and aft of the main cargo door area, and replace any cracked or damaged part with a new part identified in Figure 1 of Appendix 1 of this AD.

Reporting Requirement

(c) Within 10 days after performing any inspection required by paragraph (a)(2) of this AD: Send a report of the inspection findings to the Manager, Atlanta Aircraft Certification Office (ACO), One Crown Center, 1895 Phoenix Boulevard, suite 450, Atlanta, Georgia 30349; telephone (770) 703-6080; fax (770) 703-6097. The report must include the inspection results, including a description of any cracking or damage found, crack location and length, part number of any cracked or damaged part, airplane serial number, number of flight cycles and flight hours on the airplane, and number of flight cycles and flight hours after the airplane was converted from a passenger-to a cargo-carrying (“freighter”) configuration. Information collection requirements contained in this AD have been approved by the Office of Management and Budget (OMB) under the provisions of the Paperwork Reduction Act of 1980 (44 U.S.C. 3501 et seq.) and have been assigned OMB Control Number 2120-0056.

Alternative Methods of Compliance

(d) An alternative method of compliance or adjustment of the compliance time that provides an acceptable level of safety may be used if approved by the Manager, Atlanta ACO. Operators shall submit their requests through an appropriate FAA Principal Maintenance Inspector, who may add comments and then send it to the Manager, Atlanta ACO.

Note 3: Information concerning the existence of approved alternative methods of compliance with this AD, if any, may be obtained from the Atlanta ACO.

Special Flight Permits

(e) Special flight permits may be issued in accordance with sections 21.197 and 21.199 of the Federal Aviation Regulations (14 CFR 21.197 and 21.199) to operate the airplane to a location where the requirements of this AD can be accomplished.

Effective Date

(f) This amendment becomes effective on August 22, 2002.

Appendix 1

BILLING CODE 4910-13-P

Issued in Renton, Washington, on July 29, 2002.
Vi L. Lipski,
Manager, Transport Airplane Directorate, Aircraft Certification Service.

[FR Doc. 02-19879 Filed 8-6-02; 8:45 am]

BILLING CODE 4910-13-C